DEPARTMENT OF DEFENSE

GENERAL SERVICES ADMINISTRATION

NATIONAL AERONAUTICS AND SPACE ADMINISTRATION

48 CFR Parts 2, 11, 17, 19, 23, 25, 52, and 53

[FAC 2024-06; Item IV; Docket No. FAR-2024-0052; Sequence No. 2]

Federal Acquisition Regulation; Technical Amendments

AGENCY: Department of Defense (DoD), General Services Administration (GSA), and National Aeronautics and Space Administration (NASA).

ACTION: Final rule.

SUMMARY: This document amends the Federal Acquisition Regulation (FAR) to make needed editorial changes.

DATES: Effective: August 29, 2024.

FOR FURTHER INFORMATION CONTACT: Ms. Lois Mandell, Regulatory Secretariat Division (MVCB), at 202-501-4755 or GSARegSec@gsa.gov. Please cite FAC 2024-06, Technical Amendments.

SUPPLEMENTARY INFORMATION: This document makes editorial changes to 48 CFR parts 2, 11, 17, 19, 23, 25, 52, and 53.

List of Subjects in 48 CFR Parts 2, 11, 17, 19, 23, 25, 52, and 53

Government procurement.

William F. Clark,
Director, Office of Government-wide Acquisition Policy, Office of Acquisition Policy, Office of Government-wide Policy.

Therefore, DoD, GSA, and NASA amend 48 CFR parts 2, 11, 17, 19, 23, 25, 52, and 53 as set forth below:

1. The authority citation for 48 CFR parts 2, 11, 17, 19, 23, 25, 52, and 53 continues to read as follows:

Authority: 40 U.S.C. 121(c); 10 U.S.C. chapter 4 and 10 U.S.C. chapter 137 legacy provisions (see 10 U.S.C. 3016); and 51 U.S.C. 20113.

PART 2—DEFINITIONS OF WORDS AND TERMS

2. Amend section 2.101 by—

a. Removing the definition of “Ozone-depleting substance”; and

b. In the definition of “Small Business Teaming Arrangement”, revising paragraph (2)(ii) to read as follows:

2.101 Definitions.

* * * * *

Small Business Teaming Arrangement—

* * * * *

(2) * * *

(ii) For DoD, may include two business concerns in a mentor-protégé relationship in the DoD Mentor-Protégé Program (see 10 U.S.C. 4902) when both the mentor and the protégé are small. There is no exception to joint venture size affiliation for offers received from teaming arrangements under the DoD Mentor-Protégé Program; and

* * * * *

PART 11—DESCRIBING AGENCY NEEDS

11.602 [Amended]

3. Amend section 11.602, in paragraph (b), by removing the web address “www.bis.doc.gov/dpas” and adding the web address “https://www.bis.doc.gov/index.php/other-areas/strategic-industries-and-economic-security-sies/defense-priorities-a-allocations-system-program-dpas” in its place.

PART 17—SPECIAL CONTRACTING METHODS

4. Amend section 17.104, in paragraph (c), by revising the first sentence to read as follows:

17.104 General.

* * * * *

(c) Agency funding of multiyear contracts shall conform to the policies in OMB Circular A-11 (Preparation, Submission, and Execution of the Budget) and other applicable guidance regarding the funding of multiyear contracts. * * *

* * * * *

PART 19—SMALL BUSINESS PROGRAMS

5. Amend section 19.202-1 by revising paragraph (b) to read as follows:

19.202-1 Encouraging small business participation in acquisitions.

* * * * *

(b) Plan acquisitions such that, if practicable, more than one small business concern may perform the work, if the work exceeds the amount for which a surety may be guaranteed by SBA against loss under 15 U.S.C. 694b (see definition of “Applicable Statutory Limit” at 13 CFR 115.10).

* * * * *

19.702 [Amended]

6. Amend section 19.702, in paragraph (d), by removing the word “Pilot”.

PART 23—ENVIRONMENT, SUSTAINABLE ACQUISITION, AND MATERIAL SAFETY

23.301 [Amended]

7. Amend section 23.301 by removing “No. 313 (Federal” and adding “No. 313. Federal” in its place.

PART 25—FOREIGN ACQUISITION

8. Amend section 25.403 by adding paragraph (c)(2) to read as follows:

25.403 World Trade Organization Government Procurement Agreement and Free Trade Agreements.

* * * * *

(c) * * *

(2) This restriction does not apply to purchases of supplies by the Department of Defense from a country with which it has entered into a reciprocal agreement, as provided in departmental regulations.

25.701 [Amended]

9. Amend section 25.701, in paragraph (b), by removing the web addresses “http://www.treas.gov/offices/enforcement/ofac/sdn” and “http://www.treas.gov/offices/enforcement/ofac” and adding the web addresses “https://ofac.treasury.gov/specially-designated-nationals-and-blocked-persons-list-sdn-human-readable-lists” and “https://ofac.treasury.gov/” in their places, respectively.

PART 52—SOLICITATION PROVISIONS AND CONTRACT CLAUSES

10. Amend section 52.207-6 by revising the date of the provision and paragraph (a)(2)(ii) to read as follows:

52.207-6 Solicitation of Offers from Small Business Concerns and Small Business Teaming Arrangements or Joint Ventures (Multiple-Award Contracts).

* * * * *

Solicitation of Offers From Small Business Concerns and Small Business Teaming Arrangements or Joint Ventures (Multiple-Award Contracts) (Aug 2024)

* * * * *

(a) * * *

(2) * * *

(ii) For DoD, may include two business concerns in a mentor-protégé relationship in the Department of Defense Mentor-Protégé Program (see 10 U.S.C. 4902) when both the mentor and the protégé are small. There is no exception to joint venture size affiliation for offers received from teaming arrangements under the DoD Mentor-Protégé Program; and

* * * * *

11. Amend section 52.213-4 by:

a. Revising the date of the clause; and

b. In paragraph (b)(2)(v), removing the date “NOV 1991” and adding “JAN 1991” in its place.

The revision reads as follows:

52.213-4 Terms and Conditions—Simplified Acquisitions (Other Than Commercial Products and Commercial Services).

* * * * *

Terms and Conditions—Simplified Acquisitions (Other Than Commercial Products and Commercial Services) (Aug 2024)

* * * * *

52.223-11 [Amended]

12. Amend section 52.223-11, in the introductory text, by removing the text “in in 23.109(d)(1)” and adding the text “in 23.109(d)(1)” in its place.

52.223-21 [Amended]

13. Amend section 52.223-21, in the introductory text, by removing the text “in in 23.109(d)(4)” and adding the text “in 23.109(d)(4)” in its place.

14. Amend section 52.244-5 by revising the date of the clause and paragraph (b) to read as follows:

52.244-5 Competition in Subcontracting.

* * * * *

Competition in Subcontracting (Aug 2024)

* * * * *

(b) If the Contractor is an approved mentor under the DoD Mentor-Protégé Program (10 U.S.C. 4902), the Contractor may award subcontracts under this contract on a noncompetitive basis to its protégés.

* * * * *

15. Amend section 52.246-26 by—

a. Revising the date of the clause; and

b. In paragraph (e), removing the web address “http://www.gidep.org/about/opmanual/opmanual.htm” and adding the web address “https://www.gidep.org/login?returnUrl=%2Fdashboard” in its place.

The revision reads as follows:

52.246-26 Reporting Nonconforming Items.

* * * * *

Reporting Nonconforming Items (Aug 2024)

* * * * *

PART 53—FORMS

16. Amend section 53.236-2 by revising paragraph (a) to read as follows:

53.236-2 Architect-engineer services (SF's 252 and 330).

* * * * *

(a) SF 252 (Rev. 10/23), Architect-Engineer Contract. SF 252 is prescribed for use in awarding fixed-price contracts for architect-engineer services, as specified in 36.702(a).

* * * * *

[FR Doc. 2024-16284 Filed 7-29-24; 8:45 am]

BILLING CODE 6820-EP-P